NUCLEAR REGULATORY COMMISSION

[Docket Nos. 50-250, 50-260, and 50-296; NRC-2014-0054]

Browns Ferry Nuclear Plant, Units 1, 2, and 3

AGENCY: Nuclear Regulatory Commission.

ACTION: License amendment application; withdrawal by applicant.

SUMMARY: The U.S. Nuclear Regulatory Commission (NRC) has granted the request of the Tennessee Valley Authority (TVA, the licensee) to withdraw its application dated November 22, 2013, as supplemented by letters dated April 4, August 15, September 30, 2014, and January 29, 2015, for a proposed amendment to Renewed Facility Operating License (RFOL) Nos. DPR-33, DPR-52, and DPR-68, for the Browns Ferry Nuclear Plant, Units 1, 2, and 3 (Browns Ferry). The proposed amendment would have revised the Browns Ferry Technical Specifications to decrease the allowable leakage rate criteria for the Main Steam Isolation Valves (MSIVs).

DATES: June 23, 2015.

ADDRESSES: Please refer to Docket ID NRC-2014-0054 when contacting the NRC about the availability of information regarding this document. You may obtain publicly-available information related to this document using any of the following methods:

• Federal Rulemaking Web site: Go to http://www.regulations.gov and search for Docket ID NRC-2014-0054. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced

• NRC's PDR: You may examine and purchase copies of public documents at the NRC's PDR, Room O1-F21, One White Flint North, 11555 Rockville Pike, Rockville, Maryland 20852.

FOR FURTHER INFORMATION CONTACT: Farideh Saba, Office of Nuclear Reactor Regulation, U.S. Nuclear Regulatory Commission, Washington DC 20555-0001; telephone: 301-415-1447, email: Farideh.Saba@nrc.gov.

SUPPLEMENTARY INFORMATION: The NRC has granted the request of the TVA to withdraw its November 22, 2013, application for the proposed amendment to RFOLs for Browns Ferry, located in Limestone County, AL.

By letter dated November 22, 2013 (ADAMS Accession No. ML14015A403), as supplemented by letters dated April 4, August 15, September 30, 2014, and January 29, 2015 (ADAMS Accession Nos. ML14100A143, ML14230A827, ML14275A247, and ML15030A499, respectively), TVA proposed changing Browns Ferry Technical Specification 3.6.1.3, “Primary Containment Isolation Valves (PCIVs),” to reduce the individual and total leakage rate through the MSIVs. In the TVA letter dated August 30, 2013, “Updated Reply to Notice of Violation; EA-11-252,” the Alternative Leakage Treatment (ALT) Pathway was identified as being in a nonconforming/degraded condition. The corrective actions that were outlined to change the ALT Pathway included modification of licensing documents to show lower individual and total leakage rates through the MSIVs. The proposed change would have made the current passive secondary ALT Pathway the primary pathway and decreased the leakage rates from 100 standard cubic feet per hour (scfh) per valve to 60 scfh for individual MSIVs and the combined leakage rates for all four main steam lines from 150 scfh to 85 scfh.

The NRC published a Biweekly Notice in the Federal Register on April 8, 2014 (79 FR 19401), that gave notice that this proposed amendment was under consideration by the NRC. However, by letter dated May 29, 2015 (ADAMS Accession No ML15159B009), the licensee requested to withdraw the proposed amendment.

Dated at Rockville, Maryland, this 16th day of June 2015.
For the Nuclear Regulatory Commission.
Farideh E. Saba,
Senior Project Manager, Plant Licensing Branch II-2, Division of Operating Reactor Licensing, Office of Nuclear Reactor Regulation.

[FR Doc. 2015-15478 Filed 6-22-15; 8:45 am]

BILLING CODE 7590-01-P